INTERNATIONAL TRADE COMMISSION

[Investigations Nos. 701-TA-309-A-B (Review) and 731-TA-528 (Review)]

In the Matter of Magnesium From Canada; Notice of Commission Determination Not To Conduct a Portion of the Hearing in Camera

AGENCY: U.S. International Trade Commission.

ACTION: Commission determination not to close any part of the hearing to the public.

SUMMARY: The Commission has determined to deny the request of respondents Gouvernement du Québec (“Québec”) and Norsk Hydro Canada, Inc. (“NHCI”), to conduct a portion of its hearing in the above-captioned reviews scheduled for May 31, 2000, in camera. See Commission rules 201.13 and 201.36(b)(4) (19 CFR 201.13 and 201.36(b)(4)).

FOR FURTHER INFORMATION CONTACT: Andrea C. Casson, Office of General Counsel, U.S. International Trade Commission, telephone 202-205-3115, e-mail acasson@usitc.gov. Hearing-impaired individuals are advised that information on this matter may be obtained by contacting the Commission's TDD terminal on 202-205-1810.

SUPPLEMENTARY INFORMATION: The Commission's policy and practice is to conduct its hearings in public except in limited circumstances. See 19 CFR 201.36. The Commission's Rules provide for it to close hearings in where a party identifies subjects to be discussed during a closed session and justifies the need for such a session. 19 CFR 207.24(d). Respondents did not indicate the subjects on which they intended to present testimony during the closed session, and merely stated that during a closed session information covered by the administrative protective order could be addressed as necessary. Absent any identification of the subjects to be discussed and an adequate justification of the need for a closed session, the Commission finds no reason to depart from its ordinary practice of holding fully open hearings. The Commission has determined that the public interest would be best served by a hearing that is entirely open to the public. See 19 CFR 201.36(c)(1).

Authority: This notice is provided pursuant to Commission Rule 201.35(b) (19 CFR 201.35(b)).

Issued: May 30, 2000.
By order of the Commission.
Donna R. Koehnke,
Secretary.

[FR Doc. 00-14317 Filed 6-6-00; 8:45 am]

BILLING CODE 7020-02-P